DEPARTMENT OF HEALTH AND HUMAN SERVICES

National Institutes of Health

Center for Scientific Review; Amended Notice of Meeting

Notice is hereby given of a change in the meeting of the Center for Scientific Review Special Emphasis Panel, October 24, 2013, 01:30 p.m. to October 24, 2013, 02:30 p.m., Hotel Monaco, 2 North Charles Street, Baltimore, MD 20724 which was published in the Federal Register on October 03, 2013, 78 FR 192 Pgs. 61376-61377.

The meeting will be held at the St. Gregory Hotel & Suites, 2033 M Street NW., Washington, DC 20036. The meeting will start on December 5, 2013 at 1:00 p.m. and end December 5, 2013 at 2:00 p.m. The meeting is closed to the public.

Dated: October 29, 2013.
Melanie J. Gray,
Program Analyst, Office of Federal Advisory Committee Policy.

[FR Doc. 2013-26177 Filed 11-1-13; 8:45 am]

BILLING CODE 4140-01-P